SMALL BUSINESS ADMINISTRATION

[Declaration of Disaster #3406]

State of Maryland; Disaster Loan Areas

As a result of the President's major disaster declaration on May 1, 2002, I find that Calvert, Charles and Dorchester Counties in the State of Maryland constitute a disaster area due to damages caused by a tornado occurring on April 28, 2002. Applications for loans for physical damage as a result of this disaster may be filed until the close of business on July 1, 2002 and for economic injury until the close of business on February 3, 2003 at the address listed below or other locally announced locations: U.S. Small Business Administration, Disaster Area 1 Office, 360 Rainbow Blvd., South, 3rd Fl., Niagara Falls, NY 14303-1192.

In addition, applications for economic injury loans from small businesses located in the following contiguous counties may be filed until the specified date at the above location: Anne Arundel, Caroline, Prince George's, St. Mary's, Talbot and Wicomico Counties in the State of Maryland; Sussex County in the State of Delaware; and Fairfax, King George, Prince William and Stafford Counties in the Commonwealth of Virginia.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 340612. For economic injury the number is 9P3500 for Maryland; 9P3600 for Delaware; and 9P3700 for Virginia.

(Catalog of Federal Domestic Assistance Program Nos. 59002 and 59008).
Dated: May 2, 2002.
S. George Camp,
Acting Associate Administrator for Disaster Assistance.

[FR Doc. 02-11724 Filed 5-9-02; 8:45 am]

BILLING CODE 8025-01-P